DEPARTMENT OF THE INTERIOR

National Park Service

60 Day Notice of Intention to Request Clearance of Collection of Information; Opportunity for Public Comment

AGENCY: Department of the Interior, National Park Service.

ACTION: Notice and request for comments.

SUMMARY: The National Park Service (NPS) is proposing in 2001 to conduct a telephone survey of households in western Washington State where the following national parks are located: Olympic National Park and Mount Rainer National Park. In this survey, persons will be asked why they visit or do not visit either national park. This information will identify the reasons former visitors have stopped using the parks and why non-visitors do not go to the parks.

| Estimated numbers of: Responses | Estimated numbers of: Burden hours
Western Washington Household Survey | 1000 | 250

Under provisions of the Paperwork Reduction Act of 1995 and 5 CFR Part 1320, Reporting and Record Keeping Requirements, the National Park Service is soliciting comments on the need for gathering the information in the proposed survey. The NPS also is asking for comments on the practical utility of the information being gathered; the accuracy of the burden hour estimate; ways to enhance the quality, utility, and clarity of the information to be collected; and ways to minimize the burden to respondents, including use of automated information collection techniques or other forms of information technology.

The NPS goal in conducting this survey is to determine if former visitors have been displaced and if other persons do not go to Olympic and Mount Rainer national parks because of crowding and related factors, including traffic congestion, development, and difficulty in obtaining lodging or campsites in the parks.

DATES: Public comments will be accepted on or before September 19, 2000.

SEND COMMENTS TO: James H. Gramann, Department of Recreation, Park and Tourism Sciences, Texas A&M University, 2261 TAMU, College Station, TX 77843-2261.

FOR FURTHER INFORMATION CONTACT: James H. Gramann. Voice: 979-845-4920, e-mail: jgramann@rpts.tamu.edu.

SUPPLEMENTARY INFORMATION: Title: Development and Advancement of Carrying Capacity Management Techniques, Western Washington Household Survey.

Bureau Form Number: None.

OMB Number: To be requested.

Expiration date: To be requested.

Type of request: Request for new clearance.

Description of need: The National Park Service needs information from former visitors and non-visitors to advance the application of carrying capacity management techniques in the National Park System.

Automated data collection: At the present time, there is no automated way to gather this information because it includes asking residents for information about use and non-use of specific national parks.

Description of respondents: Persons residing in all counties of Washington State west of the Cascade Mountains, including the Seattle and Tacoma metropolitan areas.

Estimated average number of respondents: 1000 (county sample size proportional county population).

Estimated average number of responses: Each respondent will respond only one time, so the number of responses will be the same as the number of respondents.

Estimated average burden hours per response: 15 minutes.

Frequency of response: 1 time per respondent.

Estimated annual reporting burden: 250 hours.

Dated: July 18, 2000.
Betsy Chittenden,
Information Collection Clearance Officer, WASO Administrative Program Center, National Park Service.

[FR Doc. 00-18544 Filed 7-20-00; 8:45 am]

BILLING CODE 4310-70-M